ENVIRONMENTAL PROTECTION AGENCY

[EPA-HQ-OW-2011-0465; FRL-12012-01-OW]

Proposed Information Collection Request for Water Quality Standards Regulation (Renewal)

AGENCY: Environmental Protection Agency (EPA).

ACTION: Notice.

SUMMARY: The Environmental Protection Agency (EPA) is planning to submit an information collection request (ICR), “Water Quality Standards Regulation (Renewal)” (EPA ICR No. 0988.16, OMB Control No. 2040-0049) to the Office of Management and Budget (OMB) for review and approval in accordance with the Paperwork Reduction Act. Before doing so, the EPA is soliciting public comments on specific aspects of the proposed information collection as described below. This ICR renews the Water Quality Standards (WQS) Regulation ICR, which is currently approved through February 28, 2025. An agency may not conduct, or sponsor and a person is not required to respond to a collection of information unless it displays a currently valid OMB control number.

DATES: Comments must be submitted on or before August 5, 2024.

ADDRESSES: Submit your comments, referencing Docket ID No. EPA-HQ-OW-2011-0465, online using www.regulations.gov (our preferred method), by email to ow-docket@epa.gov, or by mail to: EPA Docket Center, Environmental Protection Agency, Mail Code 28221T, 1200 Pennsylvania Ave. NW, Washington, DC 20460.

EPA's policy is that all comments received will be included in the public docket without change including any personal information provided unless the comment includes profanity, threats, information claimed to be Confidential Business Information (CBI) or other information whose disclosure is restricted by statute.

FOR FURTHER INFORMATION CONTACT: Kendall Scarlett, Office of Water, Office of Science and Technology, Standards and Health Protection Division, (4305T), Environmental Protection Agency, 1200 Pennsylvania Ave. NW, Washington, DC 20460; telephone number: 202-564-1465; email address: scarlett.kendall@epa.gov.

SUPPLEMENTARY INFORMATION: Supporting documents which explain in detail the information that the EPA would be collecting are available in the public docket for this Information Collection Request (ICR) (Docket ID No. EPA-HQ-OW-2011-0465). The docket can be viewed online at www.regulations.gov or in person at the EPA Docket Center, WJC West, Room 3334, 1301 Constitution Ave. NW, Washington, DC. The telephone number for the Docket Center is 202-566-1744. For additional information about the EPA's public docket, visit http://www.epa.gov/dockets.

Pursuant to section 3506(c)(2)(A) of the Paperwork Reduction Act (PRA), the EPA is soliciting comments and information to enable it to: (i) evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and, (iv) minimize the burden of the collection of information on those who are to respond, including through the use of appropriate automated electronic, mechanical, or other technological collection techniques or other forms of information technology, e.g., permitting electronic submission of responses. The EPA will consider the comments received and amend the proposed WQS Regulation ICR as appropriate. The final WQS Regulation ICR package will then be submitted to OMB for review and approval. At that time, the EPA will issue another Federal Register notice to announce the submission of the WQS Regulation ICR to OMB and the opportunity to submit additional comments to OMB.

Abstract: Water quality standards (WQS) under the Clean Water Act (hereafter referred to as “the Act”) are provisions of State,¹ Tribal,² or Federal law which consist of designated uses for waters of the United States, water quality criteria to protect those uses, and antidegradation requirements. WQS are established to protect public health or welfare, protect and enhance the quality of water, and serve the purposes of the Act. Such standards serve the dual purposes of establishing the water quality goals for water bodies and serving as the regulatory basis for the establishment of water quality-based treatment controls and strategies beyond technology-based levels of treatment required by sections 301(b) and 306 of the Act. The WQS regulation, consisting of 40 CFR part 131, establishes the framework for states and authorized Tribes to adopt standards, and for the EPA to review and approve or disapprove them.

¹ “States” in the EPA's WQS Regulation and in this document includes the 50 states, the District of Columbia, Guam, the Commonwealth of Puerto Rico, the Virgin Islands, American Samoa, and the Commonwealth of the Northern Mariana Islands.

² “Tribes” in this document refers to federally recognized Tribes and “authorized Tribes” refers to those federally recognized Indian Tribes with authority to administer a CWA WQS program.

This ICR renews the WQS Regulation ICR, OMB control no. 2040-0049, expiration date February 28, 2025. This ICR renewal describes the estimated burden for states and authorized Tribes associated with the information collections to implement the requirements of 40 CFR part 131 (Water Quality Standards) and required to obtain or retain benefits (e.g., relaxed regulatory requirements) under the WQS regulation. This WQS Regulation ICR also covers periodic requests for voluntary WQS information from states and Tribes to ensure efficient and effective administration of the WQS program and further cooperative federalism.

At this time, the EPA is working to consolidate the two burden estimates of the activities that were previously split 50/50 between this WQS Regulation ICR and a separate NPDES Program ICR, OMB Control Number 2040-0004. These activities are the Great Lakes Antidegradation Demonstrations and Great Lakes Regulatory Relief Requests. The EPA anticipates that by the time this WQS Regulation ICR renewal is finalized, the full reporting burden for both activities would have been transferred and consolidated within the NPDES Program ICR. Therefore, the EPA is not reporting burden estimates for these two activities in this WQS Regulation ICR renewal.

Furthermore, this WQS Regulation ICR does not include estimates for the burden and costs of activities related to the changes to protect Tribal Reserved Rights the EPA made to the Water Quality Standards Regulation, 40 CFR part 131, effective on June 3, 2024 (see 89 FR 35717, May 2, 2024). There is a separate ICR covering those additional activities to protect Tribal Reserved Rights, see OMB control number 2040-0309, EPA ICR 2700.02.Given the uncertainties in the burden and costs estimates in that separate ICR, the EPA expects to revise the estimates based on experience gained from implementing the regulation changes to protect Tribal Reserved Rights. The EPA then expects to consolidate that revision of the burden and costs related to the additional activities to protect Tribal Reserved Rights into a future renewal of the WQS Regulation ICR. Therefore, in the future, the EPA anticipates having one WQS Regulation ICR that includes the current separate ICR for the additional activities to protect Tribal Reserved Rights.

Form Numbers: None.

Respondents/affected entities: Potential respondents to this ICR include: the 50 States, the District of Columbia, five territories, authorized Tribes with the EPA-approved water quality standards (49 Tribes as of May 2024), and a total of 18 additional Tribal respondents over the three-year duration of the ICR. The total number of potential respondents is thus 123.

Respondent's obligation to respond: Some collections in this ICR are mandatory, some are required to obtain or retain benefits pursuant to the WQS Regulation, and some are voluntary.

Estimated number of respondents: 123.

Frequency of response: Variable (once every three years, on occasion or as necessary, or only once) depending on type of information collected.

Total estimated burden: 484,322 hours per year. Burden is defined at 5 CFR 1320.03(b).

Total estimated cost: $24,773,070 in labor costs and $345,180 in operations and maintenance costs per year. There are no annualized capital costs.

Change in estimates: An increase in 13,560 hours in estimated respondent burden compared with the currently approved ICR. The increase reflects the burden hours associated with the addition of three Tribal respondents for the information collections on “Administering State and Tribal WQS” and “Voluntary WQS Program Information”. See Supporting Statement in the docket for more information.

Deborah G. Nagle,
Director, Office of Science and Technology, Office of Water.

[FR Doc. 2024-12302 Filed 6-4-24; 8:45 am]

BILLING CODE 6560-50-P